DEPARTMENT OF HEALTH AND HUMAN SERVICES

Administration for Children and Families

Submission for OMB Review; Comment Request

Title: Computerized Support Enforcement Systems.

OMB No.: 0980-0271.

Description: The information being collected is mandated by section 454(16) of the Social Security Act (the Act), which provides for the establishment and operation by the state agency, in accordance with an initial and annually updated Advance Planning Document (APD) approved under section 452(d) of the Act, of a statewide system meeting the requirements of section 454A of the Act. In addition, 454A(e)(1) requires that states create a State Case Registry (SCR) within their statewide automated child support systems to include information on IV-D cases and non-IV-D orders established or modified in the state on or after October 1, 1998. Section 454A(e)(5) of the Act requires states to regularly update their cases in the SCR.

The data being collected for the ADP are a combination of narratives, budgets and schedules, which are used to provide funding approvals on an annual basis and to monitor and oversee system development. Child support has separate regulations under 45 CFR 307.15 related to submittal penalties for non-compliance with the statutory deadline of October 1, 2000. This information collection reflects the fact that 50 states and territories are now certified under the Personal Responsibility and Work Opportunity Reconciliation Act of 1996 (PRWORA) leaving only four states that are not yet PRWORA systems certified, including one state that has not submitted an implementation APD for compliance with PRWORA automation. States and territories that opted to keep their Annual Planning Documents for child support systems are covered under a separate information collection, OMB No. 0992-0005, for 45 CFR part 95 subpart F.

The data being collected for the State Case Registry is used to transmit mandatory data elements to the Federal Case Registry (FCR) where it is used for matching against other data bases for the purposes of location of individuals, assets, employment and other child support related activities.

Respondents: The respondents are 54 state and territorial child support agencies.

Annual Burden Estimates
Instrument | Number of respondents | Number of responses per respondent | Average burden hours per response | Total burden hours
307.15 (APD) | 1 | 1 | 240 | 240
307.15 (APD Update) | 4 | 1 | 60 | 240
307.11(e)(1)(ii) Collection of non-IV-D data for SCR states | 54 | 25,200 | .046 | 62,597
307.11(e)(1)(ii) Collection of non-IV-D data for SCR courts | 3,045 | 447 | .029 | 39,472
307.11(e)(3)(v) Collection of child data for IV-D cases for SCR courts | 3,045 | 213 | .083 | 53,833
307.11(f)(1) Case data transmitted from SCR to FCR new cases and case updates | 54 | 52 | 2.82 | 7,918

Estimated Total Annual Burden Hours: 164,300.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: October 20, 2004.
Robert Sargis,
Reports Clearance Officer.

[FR Doc. 04-24073 Filed 10-27-04; 8:45 am]

BILLING CODE 4184-01-M